DEPARTMENT OF THE INTERIOR

National Park Service

[NPS-WASO-NAGPRA-NPS0035904; PPWOCRADN0-PCU00RP14.R50000]

Notice of Inventory Completion: U.S. Department of the Interior, National Park Service, Knife River Indian Villages National Historic Site, Stanton, ND

AGENCY: National Park Service, Interior.

ACTION: Notice.

SUMMARY: In accordance with the Native American Graves Protection and Repatriation Act (NAGPRA), the U.S. Department of the Interior, National Park Service, Knife River Indian Villages National Historic Site (KNRI) has completed an inventory of human remains and has determined that there is a cultural affiliation between the human remains and Indian Tribes or Native Hawaiian organizations in this notice. The human remains were removed from Mercer County, ND.

DATES: Repatriation of the human remains in this notice may occur on or after June 23, 2023.

ADDRESSES: Alisha Deegan, Superintendent, Knife River Indian Villages National Historic Site, 564 County Road 37, Stanton, ND 58571, telephone (701) 745-3300, email alisha_deegan@nps.gov.

SUPPLEMENTARY INFORMATION: This notice is published as part of the National Park Service's administrative responsibilities under NAGPRA. The determinations in this notice are the sole responsibility of the Superintendent, KNRI. Additional information on the determinations in this notice, including the results of consultation, can be found in the inventory or related records held by KNRI.

Description

In 1980, human remains representing, at minimum, three individuals were removed from Big Hidatsa (32ME12) in Mercer County, ND, during an archeological investigation that was conducted to discover more about the site through surface reconnaissance and photogrammetric mapping. In August 2019, a small bag was discovered inside a box that contained bones of identified mammals. After an examination, it was confirmed that the bones inside the small bag were human. No known individuals were identified. No associated funerary objects are present.

Cultural affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, historical information, oral tradition, and expert opinion.

Determinations

Pursuant to NAGPRA and its implementing regulations, and after consultation with the appropriate Indian Tribes and Native Hawaiian organizations, KNRI has determined that:

• The human remains described in this notice represent the physical remains of three individuals of Native American ancestry.

• There is a relationship of shared group identity that can be reasonably traced between the human remains described in this notice and the Three Affiliated Tribes of the Fort Berthold Reservation, North Dakota.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after June 23, 2023. If competing requests for repatriation are received, KNRI must determine the most appropriate requestor prior to repatriation. Requests for joint repatriation of the human remains are considered a single request and not competing requests. KNRI is responsible for sending a copy of this notice to the Indian Tribes and Native Hawaiian organizations identified in this notice.

Authority: Native American Graves Protection and Repatriation Act, 25 U.S.C. 3003, and the implementing regulations, 43 CFR 10.9, 10.10, and 10.14.

Dated: May 17, 2023.
Melanie O'Brien,
Manager, National NAGPRA Program.

[FR Doc. 2023-11009 Filed 5-23-23; 8:45 am]

BILLING CODE 4312-52-P